DEPARTMENT OF TRANSPORTATION

Surface Transportation Board

[STB Finance Docket No. 34024]

East Chattanooga Belt Railway Company—Acquisition and Operation Exemption—Norfolk Southern Railway Company

East Chattanooga Belt Railway Company (ECBT), a noncarrier, has filed a verified notice of exemption under 49 CFR 1150.31 to acquire by lease and operate a line of railroad currently owned by Norfolk Southern Railway Company (NS) beginning at approximately NS milepost 448, in the vicinity of CP 23rd Street, railroad valuation station 1+25, and extending to valuation station 5633+27, at the intersection of the rail line and Awtry Street, a distance of approximately 4.4 route miles in Chattanooga, TN.

The parties report that they intend to consummate the transaction on or after the April 4, 2001 effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34024 must be filed with the Surface Transportation Board, Office of the Secretary, Case Control Unit, 1925 K Street, NW., Washington, DC 20423-0001. In addition, a copy of each pleading must be served on Robert A. Wimbish, Esq., Harkins Cunningham, 801 Pennsylvania Avenue, NW., Suite 600, Washington, DC 20004-2615.

Board decisions and notices are available on our website at “WWW.STB.DOT.GOV.”

Decided: April 3, 2001.
By the Board, David M. Konschnik, Director, Office of Proceedings.
Vernon A. Williams,
Secretary.

[FR Doc. 01-8664 Filed 4-9-01; 8:45 am]

BILLING CODE 4915-00-P